DEPARTMENT OF HOUSING AND URBAN DEVELOPMENT

[Docket No. FR-7001-N-06]

30-Day Notice of Proposed Information Collection: Public Housing Agencies Service Areas Solicitation of Comments

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: March 15, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Colette Pollard, Reports Management Officer, QMAC, Department of Housing and Urban Development, 451 7th Street SW, Washington, DC 20410; email Colette.Pollard@hud.gov, or telephone 202-402-3400. This is not a toll-free number. Person with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on October 11, 2017 at 82 FR 47236.

A. Overview of Information Collection

Title of Information Collection: Public Housing Agencies Service Areas Solicitation of Comments.

OMB Approval Number: 2577-New.

Type of Request: New Collection.

Form Number: Interactive Geospatial tool currently under development and will be available upon completion.

Description of the need for the information and proposed use: HUD proposes to use the following information collection methodology to gather Public Housing Agencies (PHAs) service area boundaries. An interactive geospatial tool will be provided by HUD for PHAs to access online. Through this online tool, HUD will present PHAs with estimates of their service area boundaries based on the locations of the PHA's public housing units and Housing Choice Vouchers in relation to Units of General Local Government. PHAs will be provided an opportunity to revise HUD's initial estimates using the online tool. The online, interactive tool will provide PHAs with the ability to designate boundaries that more accurately reflect their actual service areas under state and local law. PHAs will be able to do so by identifying Units of General Local Government boundaries that more closely reflect their actual service areas.

The United States Housing Act of 1937 (1937 Act) in Section 3(b)(6) defines a Public Housing Agency, in part, as: “Except as provided in subparagraph (b), . . . any State, county, municipality, or other governmental entity or public body (or agency or instrumentality thereof) which is authorized to engage in or assist in the development or operation of public housing.” 42 U.S.C. 1437a. The section includes additional provisions related to PHAs operating Section 8 Housing Choice Vouchers. The 1937 Act therefore includes a reference to applicable state and local laws that PHAs operate pursuant to. HUD's regulations, at 24 CFR 982.4, defines a PHA's Jurisdiction as, “the area in which the PHA has authority under State and local law to administer the program.”

HUD is proposing an information collection regarding PHAs' applicable jurisdictions, also known as service areas, in which they are authorized to operate under state and local law. Through the online tool, HUD will present PHAs with estimates of their service area boundaries, based on the locations of the PHA's public housing unit and Housing Choice Vouchers in relation to Units of General Local Government. HUD is aware that these initial estimates may not reflect the PHA's defined service area in accordance with State and local law, therefore, PHAs will be provided an opportunity to revise HUD's initial estimates using the online tool. When revising HUD's estimates, PHAs will be instructed to include in their revisions the areas in which they are authorized to operate under state and local law, not only the areas in which they currently operate. This means including areas that the PHA may have no public housing developments or HCVs, but where the PHA could operate those programs. If the PHA believes that HUD's estimate of its service area is accurate, the PHA will be asked to validate or accept HUD's estimation within the online tool.

The information collection described in this Notice will use an online electronic methodology intended to reduce administrative costs for PHAs and the federal government. The information obtained through this information collection is intended to assist in HUD program operations and in providing data to HUD's program participants, stakeholders, and the.

Collecting PHA service area boundaries in a simple electronic format will aid in the provision of data that can be used in conducting the statement of housing needs assessments as required by the PHA Annual Plan pursuant to 24 CFR 903.7. The information will be used by HUD to provide data to PHAs for use in completing Assessments of Fair Housing. Such information is also highly relevant for informing Housing Choice Voucher policy decisions, including those related to mobility and portability. HUD itself will utilize the information to inform operations of the public housing, Housing Choice Voucher and other programs, and for estimating the impact of changes in Fair Market Rents, including Small Area Fair Market Rents. The information may also be useful for the general public, for instance, in locating local affordable housing providers and increasing awareness of local affordable housing options.

The use of a geospatial data tool to collect this information has the advantage of simplifying and minimizing the administrative costs as well as directly linking the information to existing data resources without the need for additional cost to the federal government.

| Number of respondents | Number of responses per respondent | Frequency of response | Estimated average time for requirement (in hours) | Estimated total burden (in hours)
PHA Service Area Information | 3,942 | 1 | Once per Assessment of Fair Housing cycle. (i.e. generally once every five years) | 1 | 3,942
Total Burden |  |  |  |  | 3,942

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: Including through the use of appropriate automated collection techniques or other forms of information technology, e.g., permitting electronic submission of responses.

HUD encourages interested parties to submit comment in response to these questions.

Authority: Section 3507 of the Paperwork Reduction Act of 1995, 44 U.S.C. Chapter 35.

Dated: January 30, 2018.
Colette Pollard,
Department Reports Management Officer, Office of the Chief Information Officer.

[FR Doc. 2018-02936 Filed 2-12-18; 8:45 am]

BILLING CODE 4210-67-P